FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202)-523-5793 or tradeanalysis@fmc.gov.

Agreement No.: 012367-001.

Title: MSC/Maersk Line Trans-Atlantic Space Charter Agreement.

Parties: Maersk Line A/S and MSC Mediterranean Shipping Company S.A.

Filing Party: Wayne R. Rohde, Esq.; Cozen O'Conner; 1200 19th Street NW.; Washington, DC 20036.

Synopsis: The amendment adds the trade from the Port of New York/New Jersey to the Bahamas to the scope of the agreement, and provides for the chartering of space for the movement of empty containers in that sub-trade. The amendment also revises the amount of space to be chartered under the agreement and adds language regarding the minimum duration of the agreement.

By Order of the Federal Maritime Commission.
Dated: February 19, 2016.
Karen V. Gregory,
Secretary.

[FR Doc. 2016-03915 Filed 2-23-16; 8:45 am]

BILLING CODE 6731-AA-P